DEPARTMENT OF TRANSPORTATION

Federal Aviation Administration

Sixth Meeting—RTCA Special Committee 217: Joint With EUROCAE WG-44 Terrain and Airport Mapping Databases

AGENCY: Federal Aviation Administration (FAA), DOT.

ACTION: Notice of RTCA Special Committee 217: Joint with EUROCAE WG-44 Terrain and Airport Mapping Databases.

SUMMARY: The FAA is issuing this notice to advise the public of a meeting of RTCA Special Committee 217: Joint with EUROCAE WG-44 Terrain and Airport Mapping Databases.

DATES: The meeting will be held on April 12th thru 16th, 2010, at 9 a.m.

ADDRESSES: The meeting will be held at Graf-Zeppelin-Haus (http://www.gzh.de), Kapitän Lehmann Raum, Olgastr. 20, D-88045 Friedrichshafen/Germany. Contact: Britta Eilmus Britta.Eilmus@avitech-ag.com Phone: +49-69-6060-9894, Mobile: +49-179-789-5474, Fax: +49-7541-282-199

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 217: Joint with EUROCAE WG-44 Terrain and Airport Mapping Databases meeting. The agenda will include:

Monday, April 12

• Opening Plenary Session

• Chairmen's remarks and introductions

• Approve minutes from previous meeting

• Review and approve meeting agenda

• Committee Membership Records

• Schedule for this week

• Action Item Review

• Schedule for next meetings

• Presentations (Not linked to Working Group Activity)

• Tim Roe: FAA activity with taxi route databases, tied to SC-214

• Garry Livack, Update on related Standards activities, i.e. D-NOTAM (Aerodrome), D-Taxi, D-Traffic

• André Bourdais, Proposal for Joint Task Force, SC-217/SC-214, data exchange requirements

• Allan Hart, SESAR WP9

• Working Group Report Outs (Status)

• Applications

• Data Quality—Non-Numeric Requirements

• Data Quality—Numeric Requirements

• Guidance Materials

• Temporality

• Content

• Connectivity

Tuesday, April 13

• Specific Working Group Sessions

• Connectivity

• Content

• Applications

• Numerical Requirements

• Guidance Materials

• Data Quality

Wednesday, April 14

• Continuation of Specific Working Group Sessions (if required)—Committee Coordination

• SC-186 ISRA Review and Response Planning

• SC-214 Requirements Review and Response Planning

Thursday, April 15

• Document Agreements

• DO-272, Revision C

• DO-291, Revision B

• DO-276, Revision B

• Road Map Review

Friday, April 16

• Closing Plenary Session

• Joint RTCA SC-217/EUROCAE WG-44

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 2, 2010
Francisco Estrada C.,
RTCA Advisory Committee.

[FR Doc. 2010-4847 Filed 3-5-10; 8:45 am]

BILLING CODE 4910-13-P